DEPARTMENT OF ENERGY

Federal Energy Regulatory Commission

Combined Notice of Filings #1

Take notice that the Commission received the following electric rate filings:

Docket Numbers: ER10-2822-006; ER11-2112-005; ER10-2828-001; ER10-2285-004; ER10-2423-004; ER10-2404-004; ER12-2649-001; ER10-1725-001; ER10-2994-010; ER10-3001-002; ER10-3002-001; ER10-3004-002; ER12-422-003; ER10-2301-002; ER10-3010-001; ER10-2306-002; ER12-96-003; ER11-2488-004.

Applicants: Atlantic Renewable Projects II LLC, Blue Creek Wind Farm LLC, Casselman Windpower LLC, Central Maine Power Company, Flat Rock Windpower LLC, Flat Rock Windpower II LLC, Groton Wind, LLC, Hardscrabble Wind Power LLC, Iberdrola Renewables, LLC, Lempster Wind, LLC, Locust Ridge Wind Farm, LLC, Locust Ridge Wind Farm II, LLC, New England Wind, LLC, New York State Electric & Gas Corporatio, PEI Power II, LLC, Providence Heights Wind, LLC, Rochester Gas & Electric Corporation, South Chestnut LLC, Streator-Cayuga Ridge Wind Power LLC.

Description: Second Supplement to December 30, 2013 Updated Market Power Analysis for the Northeast Region of the Iberdrola MBR Sellers ER10-2822, et. al.

Filed Date: 7/16/14.

Accession Number: 20140716-5187.

Comments Due: 5 p.m. ET 8/6/14.

Docket Numbers: ER10-3301-002; ER10-2756-002; ER10-2757-002.

Applicants: Arlington Valley, LLC, Griffith Energy LLC, GWF Energy LLC.

Description: Second Supplement to June 28, 2013 Triennial Market Power Update for the Southwest Region of the GWF Energy LLC, et. al.

Filed Date: 7/16/14.

Accession Number: 20140716-5183.

Comments Due: 5 p.m. ET 8/6/14.

Docket Numbers: ER14-2443-001.

Applicants: Carr Street Generating Station, L.P.

Description: Carr Street Amendment to be effective 7/17/2014.

Filed Date: 7/17/14.

Accession Number: 20140717-5006.

Comments Due: 5 p.m. ET 8/7/14.

Docket Numbers: ER14-2444-000.

Applicants: Coram California Development, L.P.

Description: Coram California Development, L.P. MBR Filing to be effective 7/16/2014.

Filed Date: 7/16/14.

Accession Number: 20140716-5153.

Comments Due: 5 p.m. ET 8/6/14.

Docket Numbers: ER14-2445-000.

Applicants: Midcontinent Independent System Operator, Inc.

Description: 2014-07-16 SRBPC Filing (Hurdle rate) to be effective 7/17/2014.

Filed Date: 7/16/14.

Accession Number: 20140716-5159.

Comments Due: 5 p.m. ET 8/6/14.

Docket Numbers: ER14-2446-000.

Applicants: Erie Boulevard Hydropower, L.P.

Description: Erie Boulevard Hydropower, L.P. MBR Filing to be effective 7/16/2014.

Filed Date: 7/16/14.

Accession Number: 20140716-5173.

Comments Due: 5 p.m. ET 8/6/14.

Docket Numbers: ER14-2447-000.

Applicants: Granite Reliable Power, LLC.

Description: Granite Reliable Power, LLC MBR Filing to be effective 7/16/2014.

Filed Date: 7/17/14.

Accession Number: 20140717-5000.

Comments Due: 5 p.m. ET 8/7/14.

Docket Numbers: ER14-2448-000.

Applicants: PacifiCorp.

Description: PacifiCorp submits Termination of Hermiston Generation Project Transmission Agreement between PacifiCorp and BPA.

Filed Date: 7/16/14.

Accession Number: 20140716-5179.

Comments Due: 5 p.m. ET 8/6/14.

Take notice that the Commission received the following open access transmission tariff filings:

Docket Numbers: OA14-3-000.

Applicants: FPL Energy Oklahoma Wind, LLC.

Description: FPL Energy Oklahoma Wind, LLC Petition for Waiver from Order Nos. 888, 889 and 890, and Request for Waiver of the 60-Day Rule.

Filed Date: 7/16/14.

Accession Number: 20140716-5182.

Comments Due: 5 p.m. ET 8/6/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 17, 2014.
Nathaniel J. Davis, Sr.,
Deputy Secretary.

[FR Doc. 2014-17615 Filed 7-25-14; 8:45 am]

BILLING CODE 6717-01-P